DEPARTMENT OF ENERGY

Federal Energy Regulatory Commission

[Docket No. CP06-41-000]

Regent Resources Ltd. and Sword Energy Limited; Notice of Application To Transfer Natural Gas Act Section 3 Authorization and Presidential Permit

December 27, 2005.

On December 19, 2005, Regent Resources Ltd. (Regent) and Sword Energy Limited (Sword) filed an application pursuant to section 3 of the Natural Gas Act (NGA) and section 153 of the Commission's Regulations and Executive Order No. 10485, as amended by Executive Order No. 12038, and the Secretary of Energy's Delegation Order No. 0204-112, seeking authorization to transfer Regent's existing NGA section 3 authorization and Presidential Permit to Sword, all as more fully set forth in the application which is on file with the Commission and open to the public for inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676, or for TTY, contact (202) 502-8659.

Any questions regarding the application may be directed to: Shaun Hedges, Vice President, Operations, Regent Resources Ltd., 1200, 603-7th Avenue, SW., Calgary, Alberta T2P 2T5 or call (403) 298-5741 or Richard Mellis, Vice President, Land, Sword Energy Limited, 3400, 205-5th Avenue, SW., Calgary, Alberta T2P 2V7 or call (403) 770-4824.

Specifically, Regent and Sword request the Commission to issue an order: (1) Transferring Regent's NGA section 3 authorization to Sword for the operation and maintenance of facilities for the importation of natural gas from the Province of Alberta, Canada, into Glacier County, Montana; and (2) authorizing the assignment of Regent's March 19, 2003, Presidential Permit for the operation and maintenance of facilities at the Alberta, Canada/Montana import point.

The import facilities consist of (1) a gas meter station in LSD 8-4-1-16 W4M in the Province of Alberta; (2) a 4-inch (114.3 mm) diameter pipeline located directly south of this meter station across the Canada-United States border at Section 1 T37N R5W, extending a distance of approximately 2,300 feet. The pipeline crosses the International Boundary for a distance of 30 feet (the Coutts Gas Export Pipeline) and interconnects with a 4-inch (114.3 mm) diameter pipeline (the Connector Pipeline) operated by Regent Resources Inc., a Montana incorporated company that is a wholly owned subsidiary of Regent Resources Ltd. The Connector Pipeline connects with an existing North Western-operated gathering system in northern Montana at SE. ¼ Section 8, Township 37N, Range 4W downstream of the North Western-operated North Moulton compressor station.

Regent and Sword state that the border facilities will remain in place and operation following the requested transfer and assignment. Regent and Sword also state that there are no current third party service agreements associated with the Regent pipeline, although Sword would be prepared to offer transportation services to any other shipper.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the internet in lieu of paper. See 18 CFR 385.2001(a)(1)(iii) and the instructions on the Commission's Web site (http://www.ferc.gov) under the “e-Filing” link.

Comment Date: January 17, 2006.

Magalie R. Salas,
Secretary.

[FR Doc. E5-8174 Filed 12-30-05; 8:45 am]

BILLING CODE 6717-01-P